DEPARTMENT OF TRANSPORTATION

Federal Aviation Administration

Executive Committee of the Aviation Rulemaking Advisory Committee—Meeting Location Change

AGENCY: Federal Aviation Administration (FAA), DOT.

ACTION: Notice of change in meeting location for the Executive Committee of the Aviation Rulemaking Advisory Committee (ARAC).

SUMMARY: The FAA is issuing this notice to advise the public of a change in the meeting location of the Executive Committee of the Federal Aviation Administration Aviation Rulemaking Advisory Committee.

DATES: The meeting will be held August 8, 2001, at 10 a.m.

ADDRESSES: The Holiday Inn—Capitol, 550 C Street, SW., Washington, DC 20024, Columbia Room.

FOR FURTHER INFORMATION CONTACT: Gerri Robinson, Federal Aviation Administration, 800 Independence Avenue, SW., Washington, DC 20591, telephone (202) 267-9678; fax (202) 267-5075; e-mail Gerri.Robinsin@faa.gov.

SUPPLEMENTARY INFORMATION: The Executive Committee meeting location has been changed from the Federal Aviation Administration in Washington, DC, to the Holiday Inn—Capitol, 550 C Street, SW., Washington, DC 20024, Columbia Room. Please see the Federal Register notice published on July 2, 2001, (66 FR 34982) for additional information regarding the meeting.

Issued in Washington, DC, on August 1, 2001.
Anthony F. Fazio,
Executive Director, Aviation Rulemaking Advisory Committee.

[FR Doc. 01-19704 Filed 8-2-01; 3:27 pm]

BILLING CODE 4910-13-M